DEPARTMENT OF LABOR

Employment and Training Administration

[TA-W-60,078]

Weyerhaeuser Company Lebanon Lumber Division Lebanon, OR; Notice of Affirmative Determination Regarding Application for Reconsideration

By application dated November 27, 2006, the Carpenter's Industrial Council, United Brotherhood of Carpenters and Joiners of America (Union), requested administrative reconsideration of the Department of Labor's Notice of Negative Determination Regarding Eligibility to Apply for Worker Adjustment Assistance, applicable to workers of the subject firm. The Department's determination was issued on October 19, 2006. The Department's Notice of determination was published in the Federal Register on November 6, 2006 (71 FR 65004).

The denial was based on the Department's findings that, during the relevant period, the subject company did not import lumber studs or shift production of lumber studs overseas and that the subject company's major declining customers had negligible imports of green df studs during the surveyed periods.

The Union alleges that the Weyerhaeuser Company purchased a softwood lumber production facility in Canada, inferring that the firm has increased imports of lumber or articles like or directly competitive with lumber produced at the subject facility.

The Department has carefully reviewed the Union's request for reconsideration and has determined that the Department will conduct further investigation.

Conclusion

After careful review of the application, I conclude that the claim is of sufficient weight to justify reconsideration of the Department of Labor's prior decision. The application is, therefore, granted.

Signed at Washington, DC, this 15th day of December 2006.
Linda G. Poole,
Certifying Officer, Division of Trade Adjustment Assistance.

[FR Doc. E6-21792 Filed 12-20-06; 8:45 am]

BILLING CODE 4510-30-P